DEPARTMENT OF HOUSING AND URBAN DEVELOPMENT

[Docket No. No. FR-4800-FA-12]

Announcement of Funding Awards for Fiscal Year 2003; Early Doctoral Student Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2003 Early Doctoral Student Research Grant (EDSRG) Program. The purpose of this document is to announce the names and addresses of the award winners and the amount of the awards to be used to help doctoral students cultivate their research skills through the preparation of research manuscripts that focus on housing and urban development issues.

FOR FURTHER INFORMATION CONTACT: Susan Brunson, Office of University Partnerships, Department of Housing and Urban Development, 451 Seventh Street, SW., Room 8106, Washington, DC 20410, telephone (202) 708-3061, ext. 3852. To provide service for persons who are hearing-or-speech-impaired, this number may be reached via TTY by Dialing the Federal Information Relay Service on (800) 877-8339 or (202) 708-1455. (Telephone number, other than “800” TTY numbers are not toll free).

SUPPLEMENTARY INFORMATION: The EDSRG Program provides funds to eligible doctoral students to cultivate their research skills through preparation of research manuscripts that focus on housing and urban development issues. Students, who are in the early stages of their doctoral studies, have 12 months to complete a major research study. The maximum amount to be awarded to doctoral student is $15,000.

The Office of University Partnerships under the Assistant Secretary for Policy Development and Research (PD&R ) administers this program. This Office also administers PD&R's other grant programs for academics.

The Catalog of Federal Domestic Assistance number for this program is 14.517.

On April 25, 2003 (68 FR 21173), HUD published a Notice of Funding Availability (NOFA) announcing the availability of $150,000 in FY 2003 funds for the EDSRG Program. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below. More information about the winners can be found at http://www.oup.org.

List of Awardees for Grant Assistance Under the FY 2003 Early Doctoral Student Research Grant Program Funding Competition, by Institution, Address, Grant Amount and Name of Student Funded

1. Louisiana State University, Mr. James L. Bates, E.J. Ourso College of Business Administration, 2163 CEBA, Baton Rouge, LA 70803. Grant: $15,000 to Stephanie Yates Rauterkus.

2. Rutgers University, Mr. David Listokin, Edward J. Bloustein School of Planning and Policy, 33 Livingston Avenue, Civic Square, New Brunswick, NJ 08901. Grant: $15,000 to Kristen Crossney.

3. University of North Carolina at Chapel Hill, Mr. Tony Waldrop, Center for Urban Regional Studies, Hickerson House, CB#3410, Chapel Hill, NC 27599. Grant: $15,000 to William Ewell.

4. University of Alabama, Mr. Douglass Backman, School of Social Work, P.O. Box 870314, Tuscaloosa, AL 35487. Grant: $15,000 to Russell Bennett.

5. University of North Carolina at Chapel Hill, Mr. Tony Waldrop, Center for Urban Regional Studies, Hickerson House, CB#3410, Chapel Hill, NC 27599. Grant: $15,000 to Jonathan Lepofsky.

6. Florida State University, Mr. Charles Connerly, Department of Urban and Regional Planning, Bellmay Building, Room 343, Tallahassee, FL 32306. Grant: $12,350 to Dawn Jourdan.

7. Howard University, Mr. Michael Frazier, Department of Political Science, 112 Douglass Hall, Washington, DC 20059. Grant: $15,000 to Staci Gilliam.

8. Kansas State University, Mr. Paul Lowe, 340B Waters Hall, Manhattan, KS 66506. Grant: $15,000 to Leah Tsoodle.

9. Ohio State University, Mr. Robert Greenbaum, School of Public Policy and Management, 2100 Neil Avenue, 315, Fisher Hill, Columbus, OH 43210. Grant: $15,000 to Tricia Petras.

10. Rutgers University, Mr. Sean DiGiovanna, Edward J. Bloustein School of Planning and Policy, 33 Livingston Avenue, Civic Square, New Brunswick, NJ 08901. Grant: $15, 000 to Laura Pangallozzi.

Dated: June 7, 2006.
Darlene F. Williams,
Assistant Secretary for Policy Development and Research.

[FR Doc. E6-9550 Filed 6-16-06; 8:45 am]

BILLING CODE 4210-67-P